NUCLEAR REGULATORY COMMISSION

[Docket Nos. 50-269, 50-270, and 50-287]

Duke Energy Corporation; Notice of Withdrawal of Application for Amendment to Facility Operating License

The U.S. Nuclear Regulatory Commission (the Commission) has granted the request of Duke Energy Corporation (the licensee) to withdraw its June 7, 2002, application for proposed amendment to Facility Operating License Nos. DPR-38, DPR-47, and DPR-55, for Oconee Nuclear Station, Units 1, 2, and 3, located in Oconee County, South Carolina.

The proposed amendments would have revised the Updated Final Safety Analysis Report with regard to tornado mitigation. The proposed amendments would have eliminated credit for the flow path from the spent fuel pool to the high pressure injection pump following a tornado and would have credited the standby shutdown facility as the assured means of achieving safe shutdown following a tornado.

The Commission had previously issued a Notice of Consideration of Issuance of Amendment that was originally published in the Federal Register on July 23, 2002 (67 FR 48216). A revised Notice of Consideration of Issuance of Amendment was published in the Federal Register on February 18, 2003 (67 FR 7814). However, by letter dated September 9, 2004, the licensee withdrew the proposed change.

For further details with respect to this action, see the application for amendment dated June 7, 2002, and the licensee's letter dated September 9, 2004, which withdrew the application for license amendment. Documents may be examined, and/or copied for a fee, at the NRC's Public Document Room (PDR), located at One White Flint North, Public File Area O1 F21, 11555 Rockville Pike (first floor), Rockville, Maryland.

Publicly available records will be accessible electronically from the Agencywide Documents Access and Management Systems (ADAMS) Public Electronic Reading Room on the Internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 22nd day of September, 2004.
For the Nuclear Regulatory Commission.
Leonard N. Olshan, Sr.
Project Manager, Section 1, Project Directorate II, Division of Licensing Project Management, Office of Nuclear Reactor Regulation.

[FR Doc. 04-21764 Filed 9-28-04; 8:45 am]

BILLING CODE 7590-01-P